DEPARTMENT OF ENERGY

Federal Energy Regulatory Commission

[Docket No. CP04-57-000]

Southern Star Central Gas Pipeline, Inc.; Notice of Intent to Prepare an Environmental Assessment for the Proposed Abandonment of the Carter-Waters Pipeline and Request for Comments on Environmental Issues

March 12, 2004.

The staff of the Federal Energy Regulatory Commission (FERC or Commission) will prepare an environmental assessment (EA) that will discuss the environmental impacts of a project involving the abandonment of 3.15 miles of the Carter-Waters 4-inch-diameter pipeline XS-6 and appurtenances and one domestic customer tap by Southern Star Central Gas Pipeline, Inc. (Southern Star) in Platte County, Missouri.¹ This EA will be used by the Commission in its decision-making process to determine whether the project is in the public convenience and necessity.

¹ Southern Star's application was filed with the Commission under section 7 of the Natural Gas Act and part 157 of the Commission's regulations.

A fact sheet prepared by the FERC entitled “An Interstate Natural Gas Facility On My Land? What Do I Need To Know?” was attached to the project notice Southern Star provided to landowners. This fact sheet addresses a number of typically asked questions, including the use of eminent domain and how to participate in the Commission's proceedings. It is available for viewing on the FERC Internet Web site (http://www.ferc.gov).

Summary of the Proposed Project

Southern Star seeks authority to abandon in place and reclaim approximately 3.15 miles of the Carter-Waters 4-inch-diameter pipeline XS-6 and appurtenances and one domestic customer tap in Platte County, Missouri. About 1.53 miles would be removed and sold for scrap. The remaining 1.62 miles would be abandoned in place. The section of pipeline proposed to be abandoned lies parallel to Southern Star's existing Dearborn 6-inch pipeline XS-7 and is in Platte County, Missouri.

Abandonment in place is proposed for areas where Southern Star believes land restoration to original condition would be difficult, e.g., pasture, terraces, creeks, and heavily wooded areas. These sections would be cut and capped causing minimal ground disturbance and minor interruption of land use. The remaining sections of the pipeline would be reclaimed and the land would be backfilled and restored to its prior condition. To facilitate pipe removal, Southern Star would utilize the existing right-of-way, which is 66 feet wide. Approximately 12.24 acres of right-of-way would be temporarily affected.

The general location of the project facilities is shown in appendix 1.²

² The appendices referenced in this notice are not being printed in the Federal Register. Copies of all appendices, other than appendix 1 (maps), are available on the Commission's Web site at the “eLibrary” link or from the Commission's Public Reference and Files Maintenance Branch, 888 First Street, NE., Washington, DC 20426, or call (202) 502-8371. For instructions on connecting to eLibrary refer to the last page of this notice. Copies of the appendices were sent to all those receiving this notice in the mail.

Land Requirements for Abandonment

To facilitate pipe removal, Southern Star plans to utilize the existing right-of-way, which is 66 feet wide. After abandonment, either in place or by removal, Southern Star would relinquish the right-of-way to the landowner. Pipeline abandoned in place would also become the property of the landowner.

Temporary access to the right-of-way would be via field roads and existing rock paved roads along the first segment of the pipeline to be removed. Two options for access are proposed. Option 1 would affect 0.67 acre and Option 2 would affect 0.79 acre. A total of approximately 12.24 acres of right-of-way would be temporarily affected by the project.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this Notice of Intent, the Commission staff requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction activities associated with the removal of the pipeline under these general headings:

• Geology and soils;

• Land use;

• Water resources, fisheries, and wetlands;

• Cultural resources;

• Vegetation and wildlife;

• Air quality and noise.

We will also evaluate possible abandonment alternatives to the proposed project or portions of the project, and make recommendations on how to lessen or avoid impacts on the various resource areas.

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section.

Currently Identified Environmental Issues

One of the issues identified that we think deserves attention based on a preliminary review of the abandonment of facilities and the environmental information provided by Southern Star is the concern expressed by a landowner about abandoning line segments in place at stream crossings. In order to avoid disturbance of stream banks and the associated riparian zone and to eliminate the need for stream bank restoration, Southern Star plans to abandon the pipeline in place where it crosses stream channels.

Public Participation

You can make a difference by providing us with your specific comments or concerns about the project. By becoming a commenter, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP04-57-000.

• Mail your comments so that they will be received in Washington, DC on or before April 12, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's rules of practice and procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners whose property may be used temporarily for project purposes, or who own homes within distances defined in the Commission's regulations of certain aboveground facilities. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERConlinesupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Linda Mitry,
Acting Secretary.

[FR Doc. E4-612 Filed 3-17-04; 8:45 am]

BILLING CODE 6717-01-P